Proclamation 10036 of May 15, 2020

Emergency Medical Services Week, 2020

By the President of the United States of America

A Proclamation

During Emergency Medical Services Week, we honor all of the Emergency Medical Services (EMS) providers who play such a critical role in our Nation's health and safety. These incredible professionals respond to daily calls for urgent assistance and work tirelessly to serve their communities. Most recently, they have made significant contributions and immeasurable sacrifices during our Nation's response to the coronavirus pandemic, one of the most daunting and demanding challenges the country has ever faced. This week, we recognize these heroic men and women for their efforts to deliver life-saving care and compassion to their fellow Americans, and we acknowledge that our country is a safer and healthier place because of their work.

EMS providers—many of whom are volunteers—make up a coordinated and comprehensive network of highly trained workers. They are prepared to respond immediately to any crisis with pre-hospital assessment, trauma care, and medical transport, and they also share valuable data with their public health partners. They do all of this under incredible pressure that can take an emotional and physical toll on even the most seasoned professionals. At a moment's notice, these dedicated men and women rush to employ their specialized knowledge, experience, and leadership to reduce the severity of injuries and save lives, often in very high-risk situations. Every day, EMS personnel stand ready to help those in peril, responding faithfully to the needs of their fellow citizens when lives are on the line and every second matters.

The far-reaching and devastating scope of the coronavirus pandemic has increased the demands on our Nation's EMS professionals, including those from our military service branches. These heroes have courageously risen to the challenge. They remain undeterred in their efforts to deliver critical assistance to their fellow Americans. EMS personnel are often the first point of contact with patients who are experiencing coronavirus symptoms. Acting quickly and decisively, they evaluate and triage patients, transport them to hospitals or treatment facilities, and clearly and compassionately communicate with family members who are anxious about their loved ones. During this unprecedented time in our Nation's history, we are ceaselessly inspired by the sense of duty, selfless service, and sacrifice that epitomize EMS personnel.

This week, we honor all who provide emergency medical services across our country for their tenacity and life-saving skills. Thanks to their incredible efforts, our communities and our Nation are stronger, safer, and more resilient. Especially in these trying times, we are immensely proud of these brave Americans.

NOW, THEREFORE, I, DONALD J. TRUMP, President of the United States of America, by virtue of the authority vested in me by the Constitution and the laws of the United States, do hereby proclaim May 17 through May 23, 2020, as Emergency Medical Services Week. I encourage all Americans to observe this occasion by showing their support for local EMS professionals through appropriate programs, ceremonies, and activities.

IN WITNESS WHEREOF, I have hereunto set my hand this fifteenth day of May, in the year of our Lord two thousand twenty, and of the Independence of the United States of America the two hundred and forty-fourth.

[FR Doc. 2020-11054

Filed 5-19-20; 11:15 am]

Billing code 3295-F0-P